DEPARTMENT OF AGRICULTURE

Animal and Plant Health Inspection Service

[Docket No. 00-032-1]

Availability of Draft Pest Risk Assessment for the Importation of Honeybees and Honeybee Germ Plasm from Australia

AGENCY: Animal and Plant Health Inspection Service, USDA.

ACTION: Notice and request for comments.

SUMMARY: We are advising the public that a draft pest risk assessment has been prepared by the Animal and Plant Health Inspection Service for the importation of honeybees and honeybee germ plasm from Australia. We are making this draft pest risk assessment available to the public for review and comment.

DATES: We invite you to comment on the draft pest risk assessment. We will consider all comments that we receive by July 3, 2000.

ADDRESSES: Please send your comment and three copies to: Docket No. 00-032-1, Regulatory Analysis and Development, PPD, APHIS, Suite 3C03, 4700 River Road, Unit 118, Riverdale, MD 20737-1238.

Please state that your comment refers to Docket No. 00-032-1.

A copy of the draft pest risk assessment, and any comments that we receive on it, may be reviewed in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Wayne F. Wehling, Entomologist, Permits and Risk Assessments, PPQ, APHIS, 4700 River Road Unit 133, Riverdale, MD 20737-1236; (301) 734-8757.

SUPPLEMENTARY INFORMATION: The Animal and Plant Health Inspection Service (APHIS) of the U.S. Department of Agriculture has received a request from the Government of Australia to allow the importation into the United States of adult honeybees (Apis mellifera) (specifically queens and package bees) and honeybee germ plasm from Australia. The request was made in accordance with the General Agreement on Tariffs and Trade.

To determine whether the risk associated with such importation is low enough for us to initiate rulemaking to implement this change to our regulations, we have prepared a draft pest risk assessment, entitled “Pest Risk Assessment: Importation of Adult Queens, Package Bees, and Germ Plasm of Honeybees (Apis mellifera L.) From Australia,” in consultation with the Government of Australia. The draft pest risk assessment identifies quarantine pests associated with the importation of honeybees and honeybee germ plasm from Australia and qualitatively assesses the likelihood of the introduction of these quarantine pests into the United States, as well as the consequences of introduction.

We are making this draft pest risk assessment available to the public for review and comment. In particular, we request feedback on the risk factors, methodology, and documentation used in the draft pest risk assessment. We will consider all comments that we receive by the date listed under the heading DATES at the beginning of this notice.

The draft pest risk assessment is available in our reading room (information on the location and hours of the reading room is listed under the heading ADDRESSES at the beginning of this notice), on the Internet at http://www.aphis.usda.gov/ppq/pra/honeybees/, by calling the Plant Protection and Quarantine automated fax retrieval system at (301) 734-3560 and requesting document 0029, or by contacting the person listed under FOR FURTHER INFORMATION CONTACT.

Authority: 7 U.S.C. 281; 7 CFR 2.22, 2.80, and 371.2(c).

Done in Washington, DC, this 28th day of April 2000.
Bobby R. Acord,
Acting Administrator, Animal and Plant Health Inspection Service.

[FR Doc. 00-11054 Filed 5-2-00; 8:45 am]

BILLING CODE 3410-34-P